DEPARTMENT OF HEALTH AND HUMAN SERVICES

Centers for Disease Control and Prevention

Meeting; Correction

In accordance with section 10(a)(2) of the Federal Advisory Committee Act (P.L. 92-463), the Centers for Disease Control and Prevention (CDC) announces the following correction.

ACTION: Notice; correction.

SUMMARY: The Department of Health and Human Services, Center for Disease Control and Prevention published a document in the Federal Register of January 29, 2001, concerning the Safety and Occupational Health Study Section will review, discuss, and evaluate grant application(s) received in response to the Institute's standard grants review and funding cycles pertaining to research issues in occupational safety and health and allied areas.

Correction

In the Federal Register of January 29, 2001, (Volume 66, Number 19) [Notices] Page 8115—“Matters to be Discussed” should read: The meeting will convene in open session from 8:30-9:30 a.m. on February 15, 2001, to address matters related to the conduct of Study Section business. The remainder of the meeting will proceed in closed session. The purpose of the closed sessions is for the Safety and Occupational Health Study Section to consider safety and occupational health related grant applications. These portions of the meeting will be closed to the public in accordance with provisions set forth in section 552b(c)(4) and (6) title 5 U.S.C., and the Deputy Director for Program Management, CDC, pursuant to Pub. L. 92-463.

CONTACT PERSON FOR MORE INFORMATION:

Charles N. Rafferty, Ph.D., NIOSH Scientific Review Administrator, Bethesda, Maryland. Telephone (301) 435-3562, E-mail raffertc@csr.nih.gov.

The Director, Management Analysis and Services Office has been delegated the authority to sign Federal Register notices pertaining to announcements of meetings and other committee management activities, for both the Centers for Disease Control and Prevention and the Agency for Toxic Substances and Disease Registry.

Dated: February 2, 2001.
Carolyn J. Russell,
Director, Management Analysis and Services Office, Centers for Disease Control and Prevention.

[FR Doc. 01-3485 Filed 2-9-01; 8:45 am]

BILLING CODE 4163-19-P